DEPARTMENT OF COMMERCE

International Trade Administration

Initiation of Antidumping and Countervailing Duty Administrative Reviews

AGENCY: Enforcement and Compliance, International Trade Administration, Department of Commerce.

SUMMARY: The Department of Commerce (the Department) has received requests to conduct administrative reviews of various antidumping and countervailing duty orders and findings with July anniversary dates. In accordance with the Department's regulations, we are initiating those administrative reviews.

DATES: Applicable September 13, 2017.

FOR FURTHER INFORMATION CONTACT: Brenda E. Waters, Office of AD/CVD Operations, Customs Liaison Unit, Enforcement and Compliance, International Trade Administration, U.S. Department of Commerce, 1401 Constitution Avenue NW., Washington, DC 20230, telephone: (202) 482-4735.

SUPPLEMENTARY INFORMATION:

Background

The Department has received timely requests, in accordance with 19 CFR 351.213(b), for administrative reviews of various antidumping and countervailing duty orders and findings with July anniversary dates.

All deadlines for the submission of various types of information, certifications, or comments or actions by the Department discussed below refer to the number of calendar days from the applicable starting time.

Notice of No Sales

If a producer or exporter named in this notice of initiation had no exports, sales, or entries during the period of review (POR), it must notify the Department within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise. In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than July 31, 2018.

| Period to be reviewed
Antidumping Duty Proceedings
India: Corrosion-Resistant Steel Products A-533-863 | 1/4/16-6/30/17
Atlantis International Services Company Ltd
JSW Coated Products Limited
JSW Steel Ltd
Netherland, B.V.
Uttam Galva Steels
Uttam Galva Steels (BVI) Limited
Uttam Galva Steels Limited
Uttam Value Steels Limited
India: Polyethylene Terephthalate (Pet) Film A-533-824 | 7/1/16-6/30/17
Chiripal Poly Films Limited
Ester Industries Limited
Garware Polyester Ltd.
Jindal Poly Films Ltd. (India)
MTZ Polyesters Ltd.
Polyplex Corporation Ltd.
SRF Limited
SRF Limited of India
Uflex Ltd.
Vacmet India Ltd.
Italy: Certain Pasta A-475-818 | 7/1/16-6/30/17
Agritalia S.r.L.
Alessio Panarese Soceieta Agricola
Antico Pastificio Morelli 1860 S.r.l.
Colussi SpA
Francesco Tamma S.p.A.
Ghigi 1870 S.p.A.
Ghigi Industria Agroalimentare in San Clemente S.r.l.
G.R.A.M.M. S.r.l.
Industria Alimentare Colavita S.p.A. (Indalco)
La Molisana S.p.A.
Liguori Pastificio dal 1820 S.p.A.
Pasta Zara S.p.A.
Pastificio Andalini S.p.A.
Pastificio Fratelli DeLuca S.r.l.
Pastificio Menucci SpA
Pastificio Zaffiri S.r.l.
Tesa SrL
Malaysia: Certain Steel Nails A-557-816 | 7/1/16-6/30/17
Airlift Trans Oceanic Pvt. Ltd.
Astrotech Steels Private Limited
Caribbean International Co. Ltd.
Dahnay Logistics Pvt. Ltd.
Flyjac Logistics Private Ltd.
Full Well Freight (Thailand) Co.
Hecny Transportation
Inmax Industries Sdn. Bhd.
Inmax Sdn. Bhd
Jinhai Hardware Co. Ltd.
Orient Containers Sdn. Bhd.
Orient Express Container Co. Ltd.
Region International Co., Ltd.
Region System Sdn. Bhd.
Scanwell Logistics (Malaysia) Sdn Bhd
Shanghai Haoray International Trade Co. Ltd.
Sino Connections Logistics
Tag Fasteners Sdn. Bhd.
Topocean Consolidation Services
Oman: Certain Steel Nails A-523-808 | 7/1/16-6/30/17
Airlift Trans Oceanic Pvt. Ltd.
Astrotech Steels Private Ltd.
C.H. Robinson
Consolidated Shippings Services LLC
Dahnay Logistics Private Ltd.
Flyjac Logistics Private Ltd.
Intermarket (India) Private Ltd.
Noble Shipping Private Ltd.
Oman Fasteners LLC
Overseas Distribution Services Inc.
Overseas International Steel Industries LLC
Panalpina World Transport (I) Pvt. Ltd.
Swift Freight India Private Ltd.
Republic of Korea: Certain Steel Nails A-580-874 | 7/1/16-6/30/17
Airlift Trans Oceanic Pvt. Ltd.
Aironware Enterprise (China) Ltd.
AM Global Shipping Lines
Ansing Rich Tech & Trade Co. Ltd.
Apex Maritime Co., Ltd.
Apex Shipping Co. Ltd.
Astrotech Steels Private Limited
Baoding Jieboshun Trading Corp. Ltd.
Beijing Jin Heung Co. Ltd.
Beijing Kang Jie Kong Int'l Cargo Co. Ltd.
Beijing Qin Li Jeff Trading Co., Ltd.
Bestbond International Limited
Bipex Co, Ltd.
Bollore Logistics Co., Ltd.
Bolung International Trading Co., Ltd.
Bon Voyage Logistics Inc.
Bonuts Hardware Logistics Co., Ltd.
Brilliant Group Logistics Corp.
C&D International Freight Forwarding
C.H. Robinson Freight Services Ltd.
Caesar Internarional Logistics Co. Ltd.
Caribbean International Co. Ltd.
Casia Global Logistics Co Ltd
China Container Line Northern Ltd.
China Dinghao Co., Ltd.
China International Freight Co., Ltd.
China Staple Enterprise Co. Ltd
Chinatrans International Limited
Chongqing Welluck Trading Co. Ltd.
Chosun Shipping Co. Ltd.
CJ Korea Express Corp.
CKX Co. Ltd.
Cohesion Freight (HK) Ltd.
Consolidated Shipping Services L.L.C.
Crelux International Co. Ltd.
Daejin Steel Company Lrd.
Dahnay Logistics Private Ltd.
Dalian Sunny International Logistics
DCS Dah Star Logistics Co., Ltd.
De Well Container Shipping Inc.
Dezhou Hualude Hardware Products Co., Ltd.
Dong E. Fuqiang Metal Products Co., Ltd.
DT Logistics Hong Kong Ltd.
Duo-Fast Korea Co., Ltd.
Dynamic Network Container Line Limted
E&E Transport International Co., Ltd.
ECI Taiwan Co., Ltd.
Eco Steel Co., Ltd
Ejen Brothers Limited
Eumex Line Shenzhen Limited
Eunsan Shippigs & Airecargo Co,, Ltd.
Euroline Global Co., Ltd.
Expeditors Korea Ltd.
Faithful Engineering Products Co., Ltd.
Fastgrow International Co.
Fastic Transporation Co., Ltd.
Flyjac Logistics Pvt. Ltd.
G Link Express Logistics (Korea) Ltd
GCL Logistics Co., Ltd.
Global Container Line, Inc.
Globelink Weststar Shipping
Glovis America
Grandee Logistics Ltd.
Hanbit Logistics Co., Ltd.
Hanjin Logistics India Private Ltd.
Hanmi Staple Co., Ltd.
Hanon Systems
Hebei Minmetals Co., Ltd.
Hebei Tuohun Metal Products Co., Ltd.
Hecny Shipping Ltd.
Hecny Transportation Ltd.
Hengtuo Metal Products Co Ltd.
High Link Line Inc.
Hong Kong Hong Xing Da Trading Co. Ltd.
Hongyi Hardware Products Co., Ltd.
Honour Lane Logistics Company
Honour Lane Shipping Limited
Huanghua Yingjin Hardware Products Co., Ltd.
Hyundia Logistics Co., Ltd.
Inmax Industries Sdn. Bhd.
Integral Building Products Inc.
International Maritime and Aviation LLC
JAS Forwarding Co. Ltd.
Je-il Wire Production Co., Ltd.
Jeil Tracker Co. Ltd.
Jiangsu Soho Honry Import Export Co. Ltd.
Jiaxing Slk Import & Export Co., Ltd.
Jinhai Hardware Co., Ltd.
Jinheung Steel Corporation
Jinkaiyi International Industry Co.
Jinsco International Corp.
Joo Sung Sea Air Co., Ltd.
K Logistics Corp.
K Logistics Inc.
Kasy Logistics (Tianjin) Co., Ltd.
King Shipping Company
Koram Inc.
Koram Steel Co., Ltd.
Korchina International Logistics Co. Ltd.
Korea Total Logistics Co. Ltd.
Korea Wire Co., Ltd.
Kousa International Logistics Co. Ltd.
Kuehne Nagel Ltd.
LF Logistics Co. Ltd.
Linyi Flying Arrow Imp. & Exp. Ltd.
MR Forwarding China Ltd.
Maxspeed International Transport Co. Ltd.
Mingguang Ruifeng Hardware Products Co., Ltd.
Nailtech Co. Ltd.
Nanjing Caiqing Hardware Co., Ltd.
Nauri Logistics Co. Ltd.
NCL Container Lines Co. Ltd.
Neo Gls
Neptune Shipping Limited
Nexen L&C Corp.
OEC Freight Worldwide Korea Co. Ltd.
OEC Logistics Co., Ltd.
OEC World Wide Korea Co. Ltd.
Oman Fasteners LLC
Orient Express Container Co., Ltd.
Oriental Power Logistics Co. Ltd.
Overseas Distribution Services Inc.
Overseas International Steel Industry
Panalpina World Transport (PRC) Ltd.
Paslode Fasteners (Shanghai) Co. Ltd.
Promising Way (Hong Kong) Limited
Pudong Prime International Logistics, Inc.
Qingdao Chesire Trading Co. Ltd.
Qingdao D&L Group Ltd.
Qingdao Hongyuan Nail Industry Co. Ltd.
Qingdao Master Metal Products Co. Ltd.
Qingdao Meijialucky Industry and Commerce Co., Ltd.
Qingdao Mst Industry and Commerce Co., Ltd.
Qingdao Tiger Hardware Co., Ltd.
Ramses Logistics Company Limited
Regency Global Logistics Co., Ltd.
Ricoh Logistics System Co., Ltd.
Rise Time Industrial Co. Ltd.
Sam Un Co. Ltd.
Scanwell Container Line Ltd.
Schenker
Scheneker & CO AG
SDC International Australia PTY Ltd.
Seamaster Global Forwarding
Seamaster Logistics Sdn Bhd
Sejung (China) Sea & Air Co., Ltd.
Shandong Dinglong Imp. & Exp. Co. Ltd.
Shandong Liaocheng Minghua Metal PR
Shandong Oriental Cherry Hardware Group Co. Ltd.
Shanghai Haoray International Trade Co. Ltd.
Shanghai Jade Shuttle Hardware Tools Co., Ltd.
Shanghai Line Feng Int'l Transporation Co. Ltd.
Shanghai Pinnacle International Trading Co., Ltd.
Shanghai Pudong International Transporation
Shanxi Pioneer Hardware Industry Co., Ltd.
Shanxi Tianli Industries Co., Ltd.
Shijiazhuang Shuangjian Tools Co. Ltd.
Shipping Imperial Co., Ltd.
Sino Connections Logistics Inc.
S-Mart (Tianjin) Technology Development Co., Ltd.
Sparx Logistics China Limited
Speedmark International Ltd.
Suntec Industries Co., Ltd.
Swift Freight (India) Pvt Ltd.
T.H.I. Group Ltd.
The Stanley Works (Langfang) Fastening System Co., Ltd.
Tianjin Bluekin Industries Limited
Tianjin Coways Metal Products Co.
Tianjin Free Trade Service Co. Ltd.
Tianjin Fulida Supply Co. Ltd.
Tianjin Huixinshangmao Co. Ltd.
Tianjin Hweschun Fasteners Manufacturing Co. Ltd.
Tianjin Jinchi Metal Products Co., Ltd.
Tianjin Long Sheng Tai
Tianjin M&C Electronics Co., Ltd.
Tianjin Wonderful International Trading
Tianjin Zehui Hardware Co. Ltd.
Tianjin Zhonglian Metals Ware Co. Ltd.
Tianjin Zhonglian Times Technology
Toll Global Forwarding Ltd.
Top Logistics Korea Ltd.
Top Ocean Consolidated Service Ltd.
Toyo Boeki Co. Ltd.
Trans Knights, Inc.
Translink Shipping, Inc.
Transwell Logistics Co. Ltd.
Transworld Transporation Co. Ltd.
Trim International Inc.
TTI Freight Forwarder Co. Ltd.
Unicorn (Tianjin) Fasteners Co., Ltd.
UPS SCS (China) Limited
Vanguard Logistics Services
W&K Corporation Limited
Weida Freight System Co. Ltd.
Woowon Sea & Air Co. Ltd.
Xi'an Metals and Minerals Imp. Exp. Co.
Xinjiayuan International Trade Co.
Xinjiayuan Trading Co., Limited
Youngwoo Fasteners Co., Ltd.
You-One Fastening Systems
Yumark Enterprises Corp.
Zhaoqing Harvest Nails Co. Ltd.
Republic of Korea: Corrosion-Resistant Steel Products A-580-878 | 1/4/16-6/30/17
Dongbu Steel, Co., Ltd.
Dongkuk Steel Mill Co., Ltd.
Hyundai Steel Company
POSCO
Union Steel Manufacturing Co., Ltd.
Socialist Republic of Vietnam: Certain Steel Nails A-552-818 | 7/1/16-6/30/17
Apex Holding Group Limited
B.A.T. Logistics
BAC AU Logistics Service and Trading
C.H. Robinson
CS Song Thuy
FGS Logistics Co. Ltd.
Hecny Shipping Ltd.
Honour Lane Shipping Ltd.
M&T Export Trading Production
Master International Logistics
Orient Express Container Co., Ltd
Rich State Inc.
Sanco Freight
Seahorse Shipping Corporation
Thao Cuong Co., Ltd.
Toan Nhat Viet Trading and Service
Transworld Transportation Co., Ltd.
Truong Vinh Ltd.
United Nail Products Co. Ltd.
Socialist Republic of Vietnam: Welded Stainless Pressure Pipe A-552-816 | 7/1/16-6/30/17
Mejonson Industrial Vietnam Co., Ltd.
Taiwan: Certain Steel Nails A-583-854 | 7/1/16-6/30/17
Air Sea Transport, Inc.
All Precision Co., Ltd.
Apex Maritime Co., Ltd.
Aplus Pneumatic Corp.
Astrotech Steels Private Ltd.
Basso Industry Corportation
Bollore Logistics (Vietnam) Co. Ltd.
Bonuts Hardware Logistics Co.
C.H. Robinson Freight Services
Challenge Industrial Co., Ltd.
Cheng Ch International Co. Ltd.
Chia Pao Metal Co. Ltd.
China International Freight Co. Ltd.
Chite Enterprises Co., Ltd.
Crown Run Industrial Corp.
Daejin Steel Company Ltd.
E&E Transport International Co., Ltd.
Easylink Industrial Co., Ltd.
ECI Taiwan Co., Ltd.
Everise Global Logistics Co., Ltd.
Faithful Engineering Products Co. Ltd.
Fastenal Asia Pacific Ltd.
Four Winds Corporation
Fuzhou Important Countries Import & Export
Fuzhou Royal Floor Co., Ltd.
Fuzhou Top Golden Import & Export Co.
General Merchandise Consolidators
Ginfa World Co. Ltd.
Gloex Company
H&W International Forwarders Co., Ltd.
Hanbit Logistics Co., Ltd.
Hecny Shipping Limited
Hi-Sharp Industrial Corp. Ltd.
Home Value Co., Ltd.
Honour Lane Logistics Co., Ltd.
Hor Liang Industrial Corp.
Hyup Sung Indonesia
Inmax Industries Sdn. Bhd.
Jade Shuttle Enterprise Co., Ltd.
Jia Jue Industry Co. Ltd.
Jinhai Hardware Co., Ltd.
Jinsco International Corp.
Joo Sung Sea & Air Co., Ltd.
K Win Fasteners Inc.
King Freight International Corporation
Korea Wire Co., Ltd.
Liang Chyuan Industrial Co., Ltd.
Locksure Inc.
Lu Kang Hand Tools Industrial Co., Ltd.
ML Global Ltd.
Master United Corp.
Nailermate Enterprise Corporation
Newrex Screw Corporation
NMC Logistics International Company
Noble Shipping Pvt. Ltd.
NS International Ltd.
OOCL Logistics Ltd.
Orient Express Container Co., Ltd.
Oriental Power Logistics Co., Ltd.
Oriental Vanguard Logistics Co. Ltd.
Pacific Concord International Ltd.
Pacific Star Express Corp.
Panda Logistics Co., Ltd.
Panther T&H Industry Co.
Patek Tool Co., Ltd.
Point Edge Corp.
President Industrial Inc.
Pro-Team Coil Nail Enterprise, Inc.
PT Enterprise Inc.
Romp Coil Nail Industries Inc.
Scanwell
Schenker
Seamaster Logistics Sdn Bhd
Star World Product and Trading Co., Ltd.
Sun VN Transport Co.
T.H.I. Logistics Co. Ltd.
Taiwan Wakisangyo Co. Ltd.
The Ultimate Freight Management
Topps Wang International Ltd.
Trans Wagon International Co. Ltd.
Trans-Top Enterprise Co., Ltd.
Transwell Logistics Co., Ltd.
Transworld Transportation Co., Ltd.
Trim International Inc.
Tsi-Translink (Taiwan) Co. Ltd.
UC Freight Forwarding Co. Ltd.
U-Can-Do Hardware Corp.
Unicatch Industrial Co. Ltd.
Universal Power Shipping Ltd.
UPS Supply Chain Solutions
VIM International Enterprise Co., Ltd.
Wictory Co. Ltd.
Yeh Fong Hsin
Yehdyi Enterprise Co., Ltd.
Yu Tai World Co., Ltd.
Yusen Logistics (Taiwan) Ltd
Taiwan: Corrosion-Resistant Steel Products A-583-856 | 6/2/16-6/30/17
Chung Hung Steel Corporation
Great Grandeul Steel Co., Ltd.
Meng Sin Material Co., Ltd.
Prosperity Tieh Enterprise Co., Ltd.
Sheng Yu Steel Co., Ltd.
Synn Industrial Co., Ltd.
Xxentria Technology Materials Co., Ltd.
Yieh Phui Enterprise Co., Ltd.
Taiwan: Polyethylene Terephthalate (Pet) Film A-583-837 | 7/1/16-6/30/17
Nan Ya Plastics Corporation
Shinkong Materials Technology Corporation
The People's Republic of China: Circular Welded Carbon Quality Steel Pipe A-570-910 | 7/1/16-6/30/17
Baoshan Iron & Steel Co., Ltd.
Beijing Jia Mei Ao Trade Co., Ltd.
Beijing Jinghua Global Trading Co.
Benxi Northern Steel Pipes, Co. Ltd.
CNOOC Kingland Pipeline Co., Ltd.
ETCO (China) International Trading Co., Ltd.
Guangzhou Juyi Steel Pipe Co., Ltd.
Huludao City Steel Pipe Industrial
Jiangsu Changbao Steel Tube Co., Ltd.
Jiangsu Yulong Steel Pipe Co., Ltd.
Liaoning Northern Steel Pipe Co., Ltd.
Pangang Chengdu Group Iron & Steel Co., Ltd.
Shanghai Zhongyou TIPO Steel Pipe Co., Ltd.
Tianjin Baolai International Trade Co., Ltd.
Tianjin Haoyou Industry Trade Co.
Tianjin Longshenghua Import & Export
Tianjin Shuangjie Steel Pipe Co., Ltd.
Weifang East Steel Pipe Co., Ltd.
WISCO & CRM Wuhan Materials & Trade
Zhejiang Kingland Pipeline Industry Co., Ltd.
The People's Republic of China: Tapered Roller Bearings ⁴ A-570-601 | 6/1/16-5/31/17
Honour Lane Shipping Ltd.
The People's Republic of China: Xanthan Gum A-570-985 | 7/1/16-6/30/17
A.H.A. International Co., Ltd.
CP Kelco (Shandong) Biological Company Limited
Deosen Biochemical (Ordos), Ltd.
Deosen Biochemical Ltd.
Hebei Xinhe Biochemical Co. Ltd.
Inner Mongolia Fufeng Biotechnologies Co., Ltd.
Inner Mongolia Jianlong Biochemical Co., Ltd.
Jianlong Biotechnology Co., Ltd.
Langfang Meihua Bio-Technology Co., Ltd.
Meihua Group International Trading (Hong Kong) Limited
Neimenggu Fufeng Biotechnologies Co., Ltd.
Shandong Fufeng Fermentation Co., Ltd.
Shanghai Smart Chemicals Co. Ltd.
Xinjiang Fufeng Biotechnologies Co., Ltd.
Xinjiang Meihua Amino Acid Co., Ltd.
Turkey: Certain Pasta A-489-805 | 7/1/16-6/30/17
Marsan Gida Sanayi ve Ticaret A.S.
Oba Makarnacilik Sanayi ve Ticaret A.S.
Countervailing Duty Proceedings
India: Corrosion-Resistant Steel Products C-533-864 | 11/6/15-12/31/16
JSW Steel Limited
Uttam Galva Steels Limited
India: Polyethylene Terephthalate (Pet) Film C-533-825 | 1/1/16-12/31/16
Chiripal Poly Films Limited
Ester Industries Limited
Garware Polyester Ltd.
Jindal Poly Films Ltd. (India)
MTZ Polyesters Ltd.
Polyplex Corporation Ltd.
SRF Limited
SRF Limited of India
Uflex Ltd.
Vacmet India Ltd.
Italy: Certain Pasta C-475-819 | 1/1/16-12/31/16
Alessio Panarese Societa Agricola
Antico Pastificio Morelli 1870 S.r.l.
Colussi SpA
G.R.A.M.M. S.r.l.
Ghigi 1870 S.p.A.
Industria Alimentare Colavita S.p.A.
Pastificio Fratelli Deluca S.r.l.
Pastificio Mennucci SpA
Tesa SrL
Republic of Korea: Corrosion-Resistant Steel Products C-580-879 | 11/6/15-12/31/16
Bukook Steel Co., Ltd.
CJ Korea Express
DK Dongshin co., Ltd.
Dongbu Steel Co., Ltd.
Dongbu Incheon Steel Co., Ltd.
Dongbu Express
Dongkuk Stee Mill Co., Ltd.
Hongyi (HK) Hardware Products Co., Ltd.
Hyundai Steel Company
Jeli Sanup Co., Ltd.
Mitsubishi International Corp.
POSCO
POSCO C&C
POSCO Daewoo Corp.
Sejung Shipping Co., Ltd.
SeAH Steel
Soon Hong Trading Co., Ltd.
Taisan Construction Co., Ltd.
TCC Steel Co., Ltd.
Union Steel Co., Ltd.
Young Sun Steel Co.
Republic of Korea: Cut-To-Length Carbon-Quality Steel Plate ⁵ C-580-837 | 1/1/16-12/31/16
Socialist Republic of Vietnam: Certain Steel Nails C-552-819 | 1/1/16-12/31/16
BAC AU Logistics Service and Trading
Bollore Logistics
FGS Logistics Co. Ltd.
Honour Lane Shipping Ltd
M&T Export Trading Production
Master International Logistics
Rich State Inc.
Sanco Freight
SDV Vietnam Co. Ltd.
Thao Cuong Co. Ltd.
Toan Nhat Viet Trading and Service
Transworld Transportation Co., Ltd.
Truong Vinh Ltd.
United Nail Products Co. Ltd.
The People's Republic of China: Circular Welded Carbon Quality Steel Pipe C-570-911 | 1/1/16-12/31/16
Baoshan Iron & Steel Co., Ltd.
Beijing Jia Mei Ao Trade Co., Ltd.
Beijing Jinghua Global Trading Co.
Benxi Northern Steel Pipes, Co. Ltd.
CNOOC Kingland Pipeline Co., Ltd.
ETCO (China) International Trading Co., Ltd.
Guangzhou Juyi Steel Pipe Co., Ltd.
Huludao City Steel Pipe Industrial
Jiangsu Changbao Steel Tube Co., Ltd.
Jiangsu Yulong Steel Pipe Co., Ltd.
Liaoning Northern Steel Pipe Co., Ltd.
Pangang Chengdu Group Iron & Steel Co., Ltd.
Shanghai Zhongyou TIPO Steel Pipe Co., Ltd.
Tianjin Baolai International Trade Co., Ltd.
Tianjin Haoyou Industry Trade Co.
Tianjin Longshenghua Import & Export
Tianjin Shuangjie Steel Pipe Co., Ltd.
Weifang East Steel Pipe Co., Ltd.
WISCO & CRM Wuhan Materials & Trade
Zhejiang Kingland Pipeline Industry Co., Ltd.

Suspension Agreements

None.

⁴ The company listed above was inadvertently omitted from the initiation notice that published on August 1, 2017 (82 FR 35751). This notice serves as a correction to the Initiation Notice.

⁵ In the initiation that published on April 10, 2017 (82 FR 17188), the period of review for the above referenced cases was incorrect. The period of reivew listed above is correct period of review for this case.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in the Department's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

The Department's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁶ Parties are hereby reminded that revised certification requirements are in effect for company/government officials as well as their representatives. All segments of any antidumping duty or countervailing duty proceedings initiated on or after August 16, 2013, should use the formats for the revised certifications provided at the end of the Final Rule.⁷ The Department intends to reject factual submissions in any proceeding segments if the submitting party does not comply with applicable revised certification requirements.

⁶ See section 782(b) of the Act.

⁷ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: September 8, 2017.
James Maeder,
Senior Director performing the duties of Deputy Assistant Secretary for Antidumping and Countervailing Duty Operations.

[FR Doc. 2017-19417 Filed 9-12-17; 8:45 am]

BILLING CODE 3510-DS-P